DEPARTMENT OF COMMERCE

National Oceanic and Atmospheric Administration

RIN 0648-XF662

North Pacific Fishery Management Council; Public Meeting

AGENCY: National Marine Fisheries Service (NMFS), National Oceanic and Atmospheric Administration (NOAA), Commerce.

ACTION: Notice of public meeting.

SUMMARY: The North Pacific Fishery Management Council (Council) Observer Advisory Committee (OAC) will meet September 19-20, 2017.

DATES: The meeting will be held Tuesday, September 19 and Wednesday, September 20, from 9 a.m. to 5 p.m., Pacific time.

ADDRESSES: The meeting will be held at the FMA Observer Training Center, Room 1055, 7600 Sand Point Way NE., Alaska Fisheries Science Center, Seattle, WA. Teleconference available at (907) 271-2896.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

1. Review draft 2018 Observer Annual Deployment Plan;

2. Review draft Statement of Work for observer/EM contract;

3. Discuss observer analyses, including report from OAC subgroup on options for increasing partial coverage selection rates, and recommendations to address observer issues related to tendering; and

4. Scheduling and other business. More details available at https://www.npfmc.org/observer-program.

The meeting will be listening-only for those that are not on the OAC.

Special Accommodations

The meeting is via teleconference. Request for auxiliary aids should be directed to Maria Shawback at (907) 271-2809 at least 7 working days prior to the meeting date.

Dated: August 29, 2017.
Tracey L. Thompson,
Acting Deputy Director, Office of Sustainable Fisheries, National Marine Fisheries Service.

[FR Doc. 2017-18602 Filed 8-31-17; 8:45 am]

BILLING CODE 3510-22-P